DEPARTMENT OF STATE

[Public Notice 5428]

Overseas Buildings Operations; Industry Advisory Panel: Meeting Notice

The Industry Advisory Panel of the Overseas Buildings Operations will meet on Thursday, September 14, 2006 from 9:30 a.m. until 3:30 p.m. Eastern Standard Time. The meeting will be held at the Department of State, 2201 C Street, NW., (entrance on 23rd Street), Room 1105—Washington, DC. The majority of the meeting is devoted to an exchange of ideas between the Department's Bureau of Overseas Buildings Operations' senior management and the panel members, on design, operations and building maintenance. Members of the public are asked to kindly refrain from joining the discussion until Director Williams opens the discussion to the public. Please arrive no later than 9 a.m. (Security check-in desk opens at 8:30 a.m.)

Register by e-mailing: iapr@state.gov. Mail to: iapr@state.gov prior to September 6 (only one person per company may register). Your response should include your date of birth and social security number, which will be used by Diplomatic Security to issue a temporary pass to enter the building. If you have any questions, please contact Michael Sprague on 703/875-7173.

Charles E. Williams,
Director & Chief Operating Officer, Overseas Buildings Operations, Department of State.

[FR Doc. 06-7342 Filed 8-30-06; 8:45 am]

BILLING CODE 4710-24-M